DEPARTMENT OF LABOR

Employment and Training Administration

[TA-W-73,157]

FCI USA, LLC Including On-Site Leased Workers From Manpower, Inc.; Mount Union, PA; Amended Certification Regarding Eligibility To Apply for Worker Adjustment Assistance

In accordance with Section 223 of the Trade Act of 1974, as amended (“Act”), 19 U.S.C. 2273, the Department of Labor issued a Certification of Eligibility to Apply for Worker Adjustment Assistance on January 22, 2010, applicable to workers of FCI USA, LLC, including on-site leased workers from Manpower, Inc., Mount Union, Pennsylvania. The notice will be published soon in the Federal Register.

At the request of the State Agency, the Department reviewed the certification for workers of the subject firm. The workers are engaged in activities related to the production of electrical components for various communications devices, personal computers, and auto dashboards.

The review shows that on February 21, 2008, a certification of eligibility to apply for adjustment assistance was issued for all workers of FCI USA, Inc., Mount Union, Pennsylvania, separated from employment on or after September 28, 2007 through February 21, 2010. The notice was published in the Federal Register on March 7, 2008 (73 FR 12466).

In order to avoid an overlap in worker group coverage, the Department is amending the December 22, 2008 impact date established for TA-W-73,157, to read February 22, 2010.

The amended notice applicable to TA-W-73,157 is hereby issued as follows:

All workers of FCI USA, LLC, including on-site leased workers from Manpower, Inc., Mount Union, Pennsylvania, who became totally or partially separated from employment on or after February 22, 2010, through January 22, 2012, and all workers in the group threatened with total or partial separation from employment on date of certification through two years from the date of certification, are eligible to apply for adjustment assistance under Chapter 2 of Title II of the Trade Act of 1974, as amended.

Signed in Washington, DC, this 3rd day of March 2010.
Elliott S. Kushner,
Certifying Officer, Division of Trade Adjustment Assistance.

[FR Doc. 2010-4904 Filed 3-8-10; 8:45 am]

BILLING CODE 4510-FN-P